DEPARTMENT OF AGRICULTURE

Agricultural Marketing Service

[Docket No. TB-01-01]

National Advisory Committee for Tobacco Inspection Services; Meeting

In accordance with the Federal Advisory Committee Act (5 U.S.C. App.) announcement is made of the following committee meeting:

Name: National Advisory Committee for Tobacco Inspection Services.

Date: March 6, 2001.

Time: 9 a.m.

Place: U.S. Department of Agriculture (USDA), Agricultural Marketing Service (AMS), 300 12th Street SW., Room 524 Cotton Annex Building, Washington, DC 20250.

Purpose: To elect officers, review various regulations issued pursuant to the Tobacco Inspection Act (7 U.S.C. 511 et seq.), and discuss the level of service (number of sets of graders) AMS will provide for the 2001-2002 tobacco marketing season. The Committee will recommend the desired level of service to be provided to producers by AMS and an appropriate fee structure to fund the recommended services for the 2001-2002 selling season.

The meeting is open to the public. Persons, other than members, who wish to address the Committee at the meeting should contact John P. Duncan III, Deputy Administrator, Tobacco Programs, AMS, USDA, Room 502 Annex Building, P.O. Box 96456, Washington, DC 20090-6456; (202) 205-0567, prior to the meeting. Written statements may be submitted to the Committee before, at, or after the meeting. If you need any accommodations to participate in the meeting, please contact the Tobacco Programs at (202) 205-0567 by February 28, 2001, and inform us of your needs.

Dated: February 14, 2001.
Kenneth C. Clayton,
Acting Administrator, Agricultural Marketing Service.

[FR Doc. 01-4224 Filed 2-16-01; 8:45 am]

BILLING CODE 3410-02-P